DEPARTMENT OF AGRICULTURE

Animal and Plant Health Inspection Service

[Docket No. APHIS-2021-0021]

Notice of Availability of an Environmental Assessment and Finding of No Significant Impact for Release of Ganaspis brasiliensis for Biological Control of Spotted-wing Drosophila in the Contiguous United States

AGENCY: Animal and Plant Health Inspection Service, USDA.

ACTION: Notice of availability.

SUMMARY: We are advising the public that the Animal and Plant Health Inspection Service has prepared a final environmental assessment and finding of no significant impact relative to permitting the release of the insect Ganaspis brasiliensis for the biological control of spotted-wing Drosophila (Drosophila suzukii) in the contiguous United States. Based on our finding of no significant impact, we have determined that an environmental impact statement need not be prepared.

FOR FURTHER INFORMATION CONTACT: Dr. Robert S. Pfannenstiel, Acting Assistant Director, Pests, Pathogens, and Biocontrol Permits, Permitting and Compliance Coordination, PPQ, APHIS, 4700 River Road, Unit 133, Riverdale, MD 20737-1231; (301) 851-2198; email: Bob.Pfannenstiel@usda.gov.

SUPPLEMENTARY INFORMATION:

The Animal and Plant Health Inspection Service (APHIS) is issuing permits for the release of the insect Ganaspis brasiliensis in the contiguous United States for the biological control of spotted-wing Drosophila (Drosophila suzukii) (SWD).

SWD is native to East Asia. It was first detected in California, Italy, and Spain in 2008. It has since established in most fruit-growing regions in North America. SWD lays eggs inside ripening fruits. Feeding by SWD larvae results in the degradation of fruits, and the puncturing of the fruit skin may also provide a gateway for secondary bacterial and fungal infections.

On July 16, 2021, we published in the Federal Register (86 FR 37732-37733, Docket No. APHIS-2021-0021) a notice ¹ in which we announced the availability, for public review and comment, of an environmental assessment (EA) that examined the potential environmental impacts associated with the release of the insect Ganaspis brasiliensis in the continental United States for the biological control of spotted-wing Drosophila (Drosophila suzukii). Comments on the notice were required to be received on or before August 16, 2021. We received six comments on the EA by that date. All of the comments were in favor of the proposed release and did not raise any substantive issues.

¹ To view the notice, supporting documents, and the comments we received, go to http://www.regulations.gov and enter APHIS-2021-0021 in the Search field.

In this document, we are advising the public of our finding of no significant impact (FONSI) regarding the release of the insect Ganaspis brasiliensis (Hymenoptera: Figitidae) for biological control of spotted-wing Drosophila, Drosophila suzukii (Diptera: Drosophilidae) in the contiguous United States. We are limiting this finding to the contiguous United States, as our assessment does not extend to the State of Alaska. Our finding, which is based on the EA, reflects our determination that release of Ganaspis brasiliensis for the biological control of spotted-wing Drosophila (Drosophila suzukii) in the contiguous United States will not have a significant impact on the quality of the human environment. Based on this finding, we have issued permits for the release of Ganaspis brasiliensis for the biological control of spotted-wing Drosophila (Drosophila suzukii) in the contiguous United States.

The final EA and FONSI may be viewed on the Regulations.gov website (see footnote 1). Copies of the final EA and FONSI are also available for public inspection at 1620 of the USDA South Building, 14th Street and Independence Avenue SW, Washington, DC. Normal reading room hours are 8 a.m. to 4:30 p.m., Monday through Friday, except holidays. Persons wishing to inspect copies are requested to call ahead on (202) 799-7039 to facilitate entry into the reading room. In addition, copies may be obtained by calling or writing to the individual listed under FOR FURTHER INFORMATION CONTACT.

The final EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 27th day of December 2022.
Anthony Shea,
Administrator, Animal and Plant Health Inspection Service.

[FR Doc. 2022-28530 Filed 12-30-22; 8:45 am]

BILLING CODE 3410-34-P